FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011733-021.

Title: Common Ocean Carrier Platform Agreement.

Parties: A.P. Moller-Maersk A/S; CMA CGM; Hamburg-Süd; Hapag-Lloyd AG; Mediterranean Shipping Company S.A.; and United Arab Shipping Company (S.A.G.) as shareholder parties, and Alianca Navegacao e Logistica Ltda.; Compania Sud Americana de Vapores, S.A.; Companhia Libra de Navegacao; Emirates Shipping Lines; Hyundai Merchant Marine Co. Ltd; Kawasaki Kisen Kaisha, Ltd.; MISC Berhad; Mitsui O.S.K. lines Ltd.; Nippon Yusen Kaisha; Safmarine Container Lines N.V.; Senator Lines GmbH; Norasia Container Lines Limited; and Tasman Orient Line C.V. as non-shareholder parties.

Filing Party: Wayne R. Rohde, Esq.; Sher & Blackwell LLP; 1850 M Street, NW.; Suite 900; Washington, DC 20036.

Synopsis: The amendment adds COSCO Container Lines Co., Ltd. as a non-shareholder party to the agreement.

Agreement No.: 011994.

Title: Maersk Line/HSDG Space Charter Agreement.

Parties: A.P. Moller Maersk A/S and Hamburg Süd.

Filing Party: Wayne R. Rohde, Esq.; Sher & Blackwell LLP; 1850 M Street, NW.; Suite 900; Washington, DC 20036.

Synopsis: The agreement authorizes Maersk Line to charter space to Hamburg Süd on a short term basis from North Europe to the U.S. East Coast.

Agreement No.: 011995.

Title: Maersk Line/ELJSA Slot Exchange Agreement.

Parties: A.P. Moller Maersk A/S and the Evergreen Line Joint Service Agreement.

Filing Party: Wayne R. Rohde, Esq.; Sher & Blackwell LLP; 1850 M Street, NW.; Suite 900; Washington, DC 20036.

Synopsis: The agreement authorizes the parties to exchange slots in the trade between North China and Japan, on the one hand, and California, on the other.

By Order of the Federal Maritime Commission.
Dated: April 13, 2007.
Bryant L. VanBrakle,
Secretary.

[FR Doc. E7-7356 Filed 4-17-07; 8:45 am]

BILLING CODE 6730-01-P